DEPARTMENT OF EDUCATION

Applications for New Awards; Basic Needs for Postsecondary Students Program

AGENCY: Office of Postsecondary Education, Department of Education.

ACTION: Notice.

SUMMARY: The Department of Education (Department) is issuing a notice inviting applications (NIA) for new awards for fiscal year (FY) 2024 for the Basic Needs for Postsecondary Students Program, Assistance Listing Number 84.116N. This notice relates to the approved information collection under OMB control number 1894-0006.

DATES:

Applications Available: June 4, 2024.

Deadline for Transmittal of Applications: August 5, 2024.

Deadline for Intergovernmental Review: October 2, 2024.

ADDRESSES: For the addresses for obtaining and submitting an application, please refer to our Common Instructions for Applicants to Department of Education Discretionary Grant Programs, published in the Federal Register on December 7, 2022 (87 FR 75045) and available at www.federalregister.gov/d/2022-26554.

FOR FURTHER INFORMATION CONTACT: Njeri Clark, U.S. Department of Education, 400 Maryland Avenue SW, 5th floor, Washington, DC 20202-4260. Telephone: (202) 453-6224. Email: Njeri.Clark@ed.gov.

If you are deaf, hard of hearing, or have a speech disability and wish to access telecommunications relay services, please dial 7-1-1.

SUPPLEMENTARY INFORMATION:

Full Text of Announcement

I. Funding Opportunity Description

Purpose of Program: The Basic Needs for Postsecondary Students Program provides grants to eligible institutions of higher education (IHEs), or a consortia or system of such institutions, to advance systemic and sustainable solutions to student basic needs insecurity through support programs that address the basic needs of students and to report on practices that improve outcomes for students.

Background: Access to essential basic needs can have a significant impact on postsecondary success but numerous studies have found that too often, college students experience basic needs insecurity. In the Hope Center's 2020 survey of more than 195,000 college students conducted during the COVID-19 pandemic, students of color were more likely to experience basic needs insecurity than their White peers. For students across two- and four-year institutions, 70 percent of Black students, 64 percent of Hispanic students, 66 percent of Pacific Islander/Native Hawaiian students, and 70 percent of American Indian/Alaska Native students experienced basic needs insecurity, compared with 54 percent of White students. The average rate of basic needs insecurity at community colleges was 60 percent, compared to the average rate at four-year colleges of 56 percent. Students at Historically Black Colleges and Universities (HBCUs) were 14 percentage points more likely to experience basic needs insecurity than students at non-HBCUs.¹

¹ Hope Center for College, Community and Justice. (2021). “The Hope Center Survey 2021: Basic Needs Insecurity During the Ongoing Pandemic.” https://hope.temple.edu/sites/hope/files/media/document/HopeSurveyReport2021.pdf.

Evidence suggests that access to basic needs can impact student retention. For example, a study of Southern New Hampshire University students who received Federal emergency aid grants during the pandemic reported that students most frequently used the grant funds for housing, food, and transportation, and found that those students were as much as 15.5 percent more likely to stay enrolled the following semester.² Conversely, research has demonstrated a strong, statistically significant negative relationship between students who face housing insecurity and homelessness and college completion rates, persistence, and credit attainment.³ Additionally, one study found that among food-insecure college students, only 43.8 percent completed their college degree, compared with 68.1 percent of food-secure college students. Among college students who completed a degree, those who experienced food insecurity were more likely to obtain an associate degree and were less likely to receive a bachelor's or graduate/professional degree than their food-secure counterparts.⁴ According to the Department of Education, in the 2019-20 school year, 34.5 percent of students were food-insecure—46.7 percent of Black students, 39.3 percent of Hispanic students, 45.6 percent of Pacific Islander/Native Hawaiian students, and 39.3 percent of American Indian/Alaska Native students, compared to 28.8 percent of White students. During that same period, more than half of students (52.1 percent) at HBCUs and more than a third of students at Hispanic-Serving Institutions (HSIs) (37.3 percent) were food-insecure.⁵

² The Center for Higher Education Policy and Practice (2023). “Does Basic Needs Funding Improve Persistence Among College Students? Finding on How HEERF Dollars Impacted Student Persistence at SNHU.” https://www.chepp.org/wp-content/uploads/2023/10/Basic-Needs-II_10_02_2023.pdf.

³ Bipartisan Policy Center. (2023). “Housing Insecurity and Homelessness Among College Students.” https://bipartisanpolicy.org/blog/housing-insecurity-and-homelessness-among-college-students/.

⁴ Wolfson, J.A., Insolera, N., Cohen, A., Leung, C.W. (2022) “The effect of food insecurity during college on graduation and type of degree attained: evidence from a nationally representative longitudinal survey.” Public Health Nutrition. https://pubmed.ncbi.nlm.nih.gov/34321134/.

⁵ U.S. Department of Education, National Center for Education Statistics, National Postsecondary Student Aid Study: 2020 Undergraduate Students (NPSAS:UG).

Other types of basic needs insecurity also are barriers to higher education success. For example, lack of access to transportation has been found to be a barrier to higher education entry and completion due to factors including cost and affordability, poor reliability, and housing and work proximity.⁶ In addition, with four million (22 percent) U.S. undergraduate students raising children while attending a postsecondary education program,⁷ child care is a basic need for many college students. A lower percentage of student parents earned an undergraduate degree compared to students without children, and more than half (52 percent) of undergraduate student parents left school without a degree, within 6 years, compared to 32 percent of students without children, according to a 2019 U.S. Government Accountability Office (GAO) report.⁸

⁶ Schuette, A. (2023) “Transportation as a Barrier to Higher Education: Evidence from the 2022 Student Financial Wellness Survey.” Trellis Company. https://files.eric.ed.gov/fulltext/ED638075.pdf.

⁷ Institute for Women's Policy Research. (2021). “Evaluating the Role of Campus Child Care in Student Parent Success.” https://iwpr.org/wp-content/uploads/2021/10/Evaluating-the-Role-of-Campus-Child-Care_FINAL.pdf.

⁸ GAO 19-522, “More Information Could Help Student Parents Access Additional Federal Student Aid,” August 2019.

Access to mental health care services is also critical for college students. A 2023 survey found that more than half (56 percent) of students experienced chronic stress in college, and that 75 percent of students reported that stress is negatively impacting their ability to learn, focus, and do well academically. Thirty-five percent of college students said that the availability of counseling appointments at their institution needed improvement.⁹

⁹ Student Voice Survey (2023), Insider Higher Ed and College Pulse, https://reports.collegepulse.com/health-and-wellness.

Despite the role that public benefits can play to support students, in a 2023 survey of nearly 300 financial aid administrators nationwide, 43 percent said that their institution does not do direct outreach to students about Federal benefit programs and have no plans of doing so.¹⁰ According to a 2018 GAO report, only 31 percent of college students who met Supplemental Nutrition Assistance Program (SNAP) income requirements reported receiving benefits.¹¹

¹⁰ Higher Learning Advocates. (2023). “The Numbers Speak for Themselves.” https://higherlearningadvocates.org/wp-content/uploads/The-Numbers-Speak-for-Themselves-HLA-and-NASFAA-Survey-Brief-2024.pdf.

¹¹ GAO 19-95, “Food Insecurity: Better Information Could Help Eligible College Students Access Federal Food Assistance Benefits.” December 21, 2018.

To this end, this competition is designed to promote student success by supporting interventions and programs that holistically address the basic needs of students and reporting on those practices that improve student outcomes. The competition includes two absolute priorities, two competitive preference priorities, and two invitational priorities. The absolute priorities are designed to take a systemic evidence-based approach to improving outcomes for underserved students, and to benefit the institutions serving the highest number of students with basic needs insecurities, including community colleges, HBCUs, Tribal Colleges and Universities (TCUs), and Minority-serving institutions (MSIs). The competitive preference priorities are focused on supporting projects that meet the needs of the whole student and provide comprehensive student support services, as well as establishing a system of high-quality data collection and analysis to build evidence that furthers the research, development, continuous improvement, and scaling of basic needs programs and services. The two invitational priorities are focused on leveraging public benefit programs and developing campus-wide strategies to address student mental health needs.

Priorities: This notice contains two absolute priorities, two competitive preference priorities, and two invitational priorities. The absolute and competitive preference priorities are from the Secretary's Supplemental Priorities and Definitions for Discretionary Grants Programs, published in the Federal Register on December 10, 2021 (86 FR 70612) (Supplemental Priorities).

Absolute Priorities: For FY 2024 and any subsequent year in which we make awards from the list of unfunded applications from this competition, these priorities are absolute priorities. Under 34 CFR 75.105(c)(3), we consider only applications that meet each of these priorities.

These priorities are:

Absolute Priority 1—Strengthening Cross-Agency Coordination and Community Engagement To Advance Systemic Change

Projects that are designed to take a systemic evidence-based approach to improving outcomes for underserved students in one or more of the following priority areas:

(a) Coordinating efforts with Federal, State, or local agencies, or community-based organizations, that support students, to address two or more of the following:

(1) Food assistance.

(2) Housing.

(3) Transportation.

(4) Health, including physical health, mental health, and behavioral health and trauma.

(5) Child care.

(6) Technology.

(b) Conducting community needs and asset mapping to identify existing programs and initiatives that can be leveraged, and new programs and initiatives that need to be developed and implemented, to advance systemic change.

(c) Establishing cross-agency partnerships, or community-based partnerships with local nonprofit organizations, businesses, philanthropic organizations, or others, to meet family well-being needs.

Absolute Priority 2—Promoting Equity in Student Access to Educational Resources and Opportunities

Under this priority, an application must demonstrate that the project will be implemented by one or more of the following entities:

(1) Community colleges (as defined in this notice).

(2) Historically Black colleges and universities (as defined in this notice).

(3) Tribal Colleges and Universities (as defined in this notice).

(4) Minority-serving institutions (as defined in this notice).

Competitive Preference Priorities: For FY 2024 and any subsequent year in which we make awards from the list of unfunded applications from this competition, these priorities are competitive preference priorities. Under 34 CFR 75.105(c)(2)(i), we award up to an additional 7 points for Competitive Preference Priority 1 and up to 3 points for Competitive Preference Priority 2, depending on how well the application meets these priorities. Applicants may respond to none, one, or both competitive preference priorities.

These priorities are:

Competitive Preference Priority 1—Meeting Student Social, Emotional, and Academic Needs (Up to 7 Points)

Projects that are designed to improve students' social, emotional, academic, and career development, with a focus on underserved students through creating a positive, inclusive, and identity-safe climate at IHEs through one or both of the following activities:

(1) Fostering a sense of belonging and inclusion for underserved students. (up to 3 points)

(2) Implementing evidence-based practices for advancing student success for underserved students. (up to 4 points)

Competitive Preference Priority 2—Increasing Postsecondary Education Access, Affordability, Completion, and Post-Enrollment Success (Up to 3 Points)

Projects that are designed to increase postsecondary access, affordability, completion, and success for underserved students by establishing a system of high-quality data collection and analysis, such as data on persistence, retention, completion, and post-college outcomes, for transparency, accountability, and institutional improvement.

Invitational Priorities: For FY 2024 and any subsequent year in which we make awards from the list of unfunded applications from this competition, these priorities are invitational priorities. Under 34 CFR 75.105(c)(1), we do not give an application that meets these invitational priorities a competitive or absolute preference over other applications.

These priorities are:

Invitational Priority 1—Leveraging Public Benefit Programs

Under this priority, we are particularly interested in projects that include one or more of the following activities:

(a) Establishing processes to automatically identify and conduct outreach to students who may be eligible for public benefit programs in accordance with recent Federal guidance.

(b) Conducting ongoing and timely surveys and assessments of student basic needs security, including surveys of student needs conducted upon enrollment.

(c) Providing referrals and case management to students to enroll in local, State, and Federal public benefit programs.

(d) Coordinating and collaborating with government and community-based organizations and providing direct services such as temporary housing, secure sleeping arrangements, free or subsidized food, and access to child care.

Invitational Priority 2—Developing a Campus-Wide Strategy To Address Student Mental Health Needs

Under this priority, we are particularly interested in projects that are designed to develop a campus-wide strategy to address student mental health needs. This includes creating inclusive campuses, increasing the availability of supportive and treatment services and access to additional staff, and implementing best practices, such as auditing existing campus mental health supports for effectiveness; identifying gaps and taking steps to tailor interventions to better meet the needs of vulnerable populations; implementing skill-training interventions; conducting routine screenings for depression, suicide risk, and anxiety; and investing in suicide means restriction.

Definitions: The definitions of “children or students with disabilities,” “community college,” “disconnected youth,” “English learner,” “Historically Black colleges and universities,” “military- or veteran-connected student,” “Minority-serving institution,” “Tribal Colleges or Universities,” and “underserved student” are from the Supplemental Priorities. The remaining definitions are from 34 CFR 77.1.

Children or students with disabilities means children with disabilities as defined in section 602(3) of the Individuals with Disabilities Education Act (IDEA) (20 U.S.C. 1401(3)) and 34 CFR 300.8, or students with disabilities, as defined in the Rehabilitation Act of 1973 (29 U.S.C. 705(37), 705(20)(B)).

Note: Students with disabilities under 29 U.S.C. 705(20)(B) includes any individual with a disability as defined in section 3 of the Americans with Disabilities Act of 1990 (42 U.S.C. 12102).

Community college means “junior or community college” as defined in section 312(f) of the Higher Education Act of 1965, as amended (HEA).

Demonstrates a rationale means a key project component included in the project's logic model is informed by research or evaluation findings that suggest the project component is likely to improve relevant outcomes.

Disconnected youth means an individual, between the ages of 14 and 24, who may be from a low-income background, experiences homelessness, is in foster care, is involved in the justice system, or is not working or not enrolled in (or at risk of dropping out of) an educational institution.

English learner means an individual who is an English learner as defined in section 8101(2) of the Elementary and Secondary Education Act of 1965, as amended, or an individual who is an English language learner as defined in section 203(7) of the Workforce Innovation and Opportunity Act.

Evidence-based means the proposed project component is supported by promising evidence or evidence that demonstrates a rationale.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Historically Black colleges and universities means colleges and universities that meet the criteria set out in 34 CFR 608.2.

Logic model (also referred to as a theory of action) means a framework that identifies key project components of the proposed project (i.e., the active “ingredients” that are hypothesized to be critical to achieving the relevant outcomes) and describes the theoretical and operational relationships among the key project components and relevant outcomes.

Note: In developing logic models, applicants may want to use resources such as the Regional Educational Laboratory Program's (REL Pacific) Education Logic Model Application, available at https://ies.ed.gov/ncee/edlabs/regions/pacific/elm.asp to help design their logic models. Other sources include: https://ies.ed.gov/ncee/edlabs/regions/pacific/pdf/REL_2014025.pdf, https://ies.ed.gov/ncee/edlabs/regions/pacific/pdf/REL_2014007.pdf, and https://ies.ed.gov/ncee/edlabs/regions/northeast/pdf/REL_2015057.pdf.

Military- or veteran-connected student means one or more of the following:

(a) A child participating in an early learning program, a student enrolled in preschool through grade 12, or a student enrolled in career and technical education or postsecondary education who has a parent or guardian who is a member of the uniformed services (as defined by 37 U.S.C. 101), in the Army, Navy, Air Force, Marine Corps, Coast Guard, Space Force, National Guard, Reserves, National Oceanic and Atmospheric Administration, or Public Health Service or is a veteran of the uniformed services with an honorable discharge (as defined by 38 U.S.C. 3311).

(b) A student who is a member of the uniformed services, a veteran of the uniformed services, or the spouse of a service member or veteran.

(c) A child participating in an early learning program, a student enrolled in preschool through grade 12, or a student enrolled in career and technical education or postsecondary education who has a parent or guardian who is a veteran of the uniformed services (as defined by 37 U.S.C. 101).

Minority-serving institution means an institution that is eligible to receive assistance under sections 316 through 320 of part A of title III, under part B of title III, or under title V of the HEA.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(i) A practice guide prepared by What Works Clearinghouse (WWC) reporting a “strong evidence base” or “moderate evidence base” for the corresponding practice guide recommendation;

(ii) An intervention report prepared by the WWC reporting a “positive effect” or “potentially positive effect” on a relevant outcome with no reporting of a “negative effect” or “potentially negative effect” on a relevant outcome; or

(iii) A single study assessed by the Department, as appropriate, that—

(A) Is an experimental study, a quasi-experimental design study, or a well-designed and well-implemented correlational study with statistical controls for selection bias (e.g., a study using regression methods to account for differences between a treatment group and a comparison group); and

(B) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Relevant outcome means the student outcome(s) or other outcomes(s) the key project component is designed to improve, consistent with the specific goals of the program.

Tribal Colleges or Universities has the meaning ascribed it in section 316(b)(3) of the HEA.

Underserved student means a student in postsecondary education in one or more of the following subgroups:

(a) A student who is living in poverty or is served by schools with high concentrations of students living in poverty.

(b) A student of color.

(c) A student who is a member of a federally recognized Indian Tribe.

(d) An English learner.

(e) A child or student with a disability.

(f) A disconnected youth.

(g) A technologically unconnected youth.

(h) A migrant student.

(i) A student experiencing homelessness or housing insecurity.

(j) A lesbian, gay, bisexual, transgender, queer or questioning, or intersex (LGBTQI+) student.

(k) A student who is in foster care.

(l) A student without documentation of immigration status.

(m) A pregnant, parenting, or caregiving student.

(n) A student impacted by the justice system, including a formerly incarcerated student.

(o) A student who is the first in their family to attend postsecondary education.

(p) A student enrolling in or seeking to enroll in postsecondary education for the first time at the age of 20 or older.

(q) A student who is working full-time while enrolled in postsecondary education.

(r) A student who is enrolled in or is seeking to enroll in postsecondary education who is eligible for a Pell Grant.

(s) An adult student in need of improving their basic skills or an adult student with limited English proficiency.

(t) A military- or veteran- connected student.

What Works Clearinghouse Handbooks (WWC Handbooks) means the standards and procedures set forth in the WWC Standards Handbook, Versions 4.0 or 4.1, and WWC Procedures Handbook, Versions 4.0 or 4.1, or in the WWC Procedures and Standards Handbook, Version 3.0 or Version 2.1 (all incorporated by reference, see 34 CFR 77.2). Study findings eligible for review under WWC standards can meet WWC standards without reservations, meet WWC standards with reservations, or not meet WWC standards. WWC practice guides and intervention reports include findings from systematic reviews of evidence as described in the WWC Handbooks documentation.

Note: The What Works Clearinghouse Procedures and Standards Handbook (Version 4.1), as well as the more recent What Works Clearinghouse Handbook released in August 2022 (Version 5.0), are available at https://ies.ed.gov/ncee/wwc/Handbooks.

Program Authority: 20 U.S.C. 1138-1138d; the Explanatory Statement accompanying Division D of the Further Consolidated Appropriations Act, 2024 (Pub. L. 118-47).

Note: Projects will be awarded and must be operated in a manner consistent with the nondiscrimination requirements contained in the Federal civil rights laws.

Applicable Regulations: (a) The Education Department General Administrative Regulations in 34 CFR parts 75, 77, 79, 82, 84, 86, 97, 98, and 99. (b) The Office of Management and Budget (OMB) Guidelines to Agencies on Governmentwide Debarment and Suspension (Non-procurement) in 2 CFR part 180, as adopted and amended as regulations of the Department in 2 CFR part 3485. (c) The Guidance for Federal Financial Assistance in 2 CFR part 200, as adopted and amended as regulations of the Department in 2 CFR part 3474. (d) The Supplemental Priorities.

Note: The U.S. Department of Education (ED) will implement the changes included in the Office of Management and Budget (OMB) final rule, OMB Guidance for Federal Financial Assistance (https://www.federalregister.gov/documents/2024/04/22/2024-07496/guidance-for-federal-financial-assistance), formerly called, Office of Management and Budget Guidance for Grants and Agreements, which amends 2 CFR part 200, on October 1, 2024. Grant applicants who anticipate a performance period start date on or after October 1, 2024, should follow the provisions stated in the updated 2 CFR part 200, when preparing an application. For more information about these updated regulations please visit: https://www2.ed.gov/policy/fund/guid/uniform-guidance/index.html. ED will continue to provide more resources on our web page as they become available.

II. Award Information

Type of Award: Discretionary grants.

Estimated Available Funds: $9,583,334.

Contingent upon the availability of funds and the quality of applications, we may make additional awards in subsequent fiscal years from the list of unfunded applications from this competition.

Estimated Range of Awards: $500,000 to $900,000.

Estimated Average Size of Award: $750,000.

Maximum Award: We will not make an award exceeding $900,000 for the entire project period of 36 months.

Estimated Number of Awards: 12.

Note: The Department is not bound by any estimates in this notice.

Project Period: Up to 36 months.

III. Eligibility Information

1. Eligible Applicants: Community colleges (as defined in this notice), and two- and four-year public and private Historically Black colleges and universities (as defined in this notice), Tribal Colleges and Universities (as defined in this notice), other Minority-serving institutions (as defined in this notice), or a consortium or system of eligible institutions.

For institutions other than community colleges, only institutions that the Department determines are eligible as Historically Black colleges and universities, Tribal Colleges and Universities, and other Minority-serving institutions, or which are granted a waiver in the notice published in the Federal Register one January 22, 2024 (89 FR 3916)announcing Eligibility Designations and Applications for Waiving Requirements, and that meet the other eligibility requirements described in this notice, may apply for a grant under those eligibility bases for this program.

Note: The list of institutions designated as eligible for FY 2024 under titles III and V of the HEA is available at https://www2.ed.gov/about/offices/list/ope/idues/eligibility.html.

2.a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Guidance for Federal Financial Assistance.

3. Subgrantees: A grantee under this competition may not award subgrants to entities to directly carry out project activities described in its application.

IV. Application and Submission Information

1. Application Submission Instructions: Applicants are required to follow the Common Instructions for Applicants to Department of Education Discretionary Grant Programs, published in the Federal Register on December 7, 2022 (87 FR 75045), and available at www.federalregister.gov/d/202226554, which contain requirements and information on how to submit an application.

2. Submission of Proprietary Information: Given the types of projects that may be proposed in applications for the Basic Needs for Postsecondary Students Program, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600 (Predisclosure Notification Procedures for Confidential Commercial Information), please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this program.

4. Funding Restrictions: We reference additional regulations outlining funding restrictions in the Applicable Regulations section of this notice.

5. Recommended Page Limit: The application narrative is where you, the applicant, address the selection criteria and the priorities that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger, and no smaller than 10-pitch (characters per inch).

• Use one of the following fonts: Times New Roman, Courier, Courier New, or Arial.

The recommended page limit does not apply to the Application for Federal Assistance form (SF-424); the ED SF-424 Supplement form; the Budget Information—Non-Construction Programs form (ED 524); the assurances and certifications; or the one-page project abstract and supporting budget narrative.

V. Application Review Information

1. Selection Criteria: The selection criteria for this competition are from 34 CFR 75.210. An applicant may earn up to a total of 100 points based on the selection criteria and up to 10 additional points under the competitive preference priorities, for a total score of up to 110 points. The selection criteria are as follows:

(a) Need for the project. (up to 10 points)

The Secretary considers the need for the proposed project. In determining the need for the proposed project, the Secretary considers the following factors:

(1) The magnitude of the need for the services to be provided or the activities to be carried out by the proposed project. (up to 5 points)

(2) The extent to which specific gaps or weaknesses in services, infrastructure, or opportunities have been identified and will be addressed by the proposed project, including the nature and magnitude of those gaps or weaknesses. (up to 5 points)

(b) Quality of the project design. (up to 30 points)

The Secretary considers the quality of the design of the proposed project. In determining the quality of the design of the proposed project, the Secretary considers the following factors:

(1) The extent to which the proposed project will integrate with or build on similar or related efforts to improve relevant outcomes (as defined in this notice), using existing funding streams from other programs or policies supported by community, State, and Federal resources. (up to 10 points)

(2) The extent to which the proposed project demonstrates a rationale (as defined in this notice). (up to 15 points)

(3) The extent to which the design of the proposed project is appropriate to, and will successfully address, the needs of the target population or other identified needs. (up to 5 points)

(c) Quality of project services. (up to 25 points)

The Secretary considers the quality of the services to be provided by the proposed project.

(1) In determining the quality of the services to be provided by the proposed project, the Secretary considers the quality and sufficiency of strategies for ensuring equal access and treatment for eligible project participants who are members of groups that have traditionally been underrepresented based on race, color, national origin, gender, age, or disability. (up to 5 points)

(2) In addition, the Secretary considers the following factors:

(i) The likely impact of the services to be provided by the proposed project on the intended recipients of those services. (up to 5 points)

(ii) The extent to which the services to be provided by the proposed project involve the collaboration of appropriate partners for maximizing the effectiveness of project services. (up to 15 points)

(d) Quality of project personnel. (up to 10 points)

The Secretary considers the quality of the personnel who will carry out the proposed project.

(1) In determining the quality of project personnel, the Secretary considers the extent to which the applicant encourages applications for employment from persons who are members of groups that have traditionally been underrepresented based on race, color, national origin, gender, age, or disability. (up to 3 points)

(2) In addition, the Secretary considers the qualifications, including relevant training and experience, of key project personnel. (up to 7 points)

(e) Quality of the management plan. (up to 10 points)

The Secretary considers the quality of the management plan for the proposed project. In determining the quality of the management plan for the proposed project, the Secretary considers the adequacy of the management plan to achieve the objectives of the proposed project on time and within budget, including clearly defined responsibilities, timelines, and milestones for accomplishing project tasks.

(f) Quality of the project evaluation. (up to 15 points)

The Secretary considers the quality of the evaluation to be conducted of the proposed project. In determining the quality of the evaluation, the Secretary considers the following factors:

(1) The extent to which the methods of evaluation are thorough, feasible, and appropriate to the goals, objectives, and outcomes of the proposed project. (up to 5 points)

(2) The extent to which the methods of evaluation include the use of objective performance measures that are clearly related to the intended outcomes of the project and will produce quantitative and qualitative data to the extent possible. (up to 5 points)

(3) The extent to which the methods of evaluation will, if well implemented, produce promising evidence (as defined in this notice) about the project's effectiveness (up to 5 points).

Note: For the selection criterion “Quality of personnel” in paragraph (d), applicants are encouraged to include in their application that they are committed to paying their staff a living wage for the local area and providing benefits.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

A panel of three non-Federal reviewers will review and score each application in accordance with the selection criteria in this notice, as well as the competitive preference priorities. A rank order funding slate will be made from this review. Awards will be made in rank order according to the average score received from the peer review.

In the event there are two or more applications with the same final score, and there are insufficient funds to fully support each of these applications, the Department applies the following tie-breaking factors.

To resolve ties in the reader scores of applications, the Department will award one additional point to an application from an IHE with the highest percentage of degree/certificate-seeking students who are Pell grant recipients. If a tie remains after applying the preceding tiebreaker, the Department will award one additional point to an application from an IHE with the highest average score for the selection criterion “Quality of Project Services.” If a tie remains after applying the preceding tiebreaker, the Department will award one additional point to an application from an IHE with the highest average score for the selection criterion “Quality of the Project Design.” If a tie remains after applying the preceding tiebreaker, the Department will award one additional point to an application from an IHE with the highest average score for the selection criterion “Quality of the Project Evaluation.”

3. Risk Assessment and Specific Conditions: Consistent with 2 CFR 200.206, before awarding grants under this program, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

5. In General: In accordance with the Guidance for Federal Financial Assistance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements, please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For purposes of Department reporting under 34 CFR 75.110, the Department will use the following performance measures to evaluate the success of the Basic Needs for Postsecondary Students Program:

(1) The percentage of low-income students at the grantee institution served by any direct student service supported by the grant.

(2) The annual persistence rate at the grantee institution for all students who are served by any direct student service supported by the grant.

(3) By the end of the grant period, the rate of degree or certificate completion at the grantee institution for all students served by any direct student service supported by the grant.

(4) The level of basic needs insecurity among all students served by any direct student service supported by the grant, measured before and after implementation of the grant.

Note: For purpose of the performance measures, the term “low-income student” means a student—

(a) Who is eligible to receive a Federal Pell Grant for the award year for which the determination is made; or

(b) Who would otherwise be eligible to receive a Federal Pell Grant for the award year for which the determination is made, except that the student fails to meet the requirements of section 484(a)(5) of the HEA, 20 U.S.C. 1091(a)(5), because the student is in the United States for a temporary purpose.

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site, you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Nasser Paydar,
Assistant Secretary for Postsecondary Education.

[FR Doc. 2024-12169 Filed 6-3-24; 8:45 am]

BILLING CODE 4000-01-P